GENERAL SERVICES ADMINISTRATION

[OMB Control No. 3090-00XX; Docket 2010-0002; Sequence 15]

General Services Administration Acquisition Regulation; Submission for OMB Review; GSA Form 1217, Lessor's Annual Cost Statement

AGENCY: Department of Defense (DOD), General Services Administration (GSA), and National Aeronautics and Space Administration (NASA).

ACTION: Notice of Request for public comments regarding a new OMB information clearance.

SUMMARY: Under the provisions of the Paperwork Reduction Act of 1995 (44 U.S.C. Chapter 35), the Regulatory Secretariat will be submitting to the Office of Management and Budget (OMB) a request to review and approve a new information collection requirement regarding Lessor's Annual Cost Statement. A request for public comments was published in the Federal Register at 74 FR 63704, on December 4, 2009. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before January 28, 2011.

ADDRESSES: Submit comments identified by Information Collection 3090-00xx, Lessor's Annual Cost Statement by any of the following methods:

• Regulations.gov: http://www.regulations.gov.

Submit comments via the Federal eRulemaking portal by inputting “Information Collection 3090-00xx, Lessor's Annual Cost Statement” under the heading “Enter Keyword or ID” and selecting “Search”. Select the link “Submit a Comment” that corresponds with “Information Collection 3090-00xx, Lessor's Annual Cost Statement”. Follow the instructions provided at the “Submit a Comment” screen. Please include your name, company name (if any), and “Information Collection 3090-00xx, Lessor's Annual Cost Statement” on your attached document.

• Fax: 202-501-4067.

• Mail: General Services Administration, Regulatory Secretariat (MVCB), 1275 1st Street, NE., Washington, DC 20417. ATTN: Hada Flowers/IC 3090-00xx.

Instructions: Please submit comments only and cite Information Collection 3090-00xx, Lessor's Annual Cost Statement, in all correspondence related to this collection. All comments received will be posted without change to http://www.regulations.gov, including any personal and/or business confidential information provided.

FOR FURTHER INFORMATION CONTACT: Ms. Deborah Lague, Procurement Analyst, Contract Policy Branch, at telephone (202) 694-8149 or via e-mail to deborah.lague@gsa.gov.

SUPPLEMENTARY INFORMATION:

A. Purpose

In accordance with the proposed GSAR 570.802(d), the GSA Form 1217 is used to obtain information about operating expenses for property being offered for lease to house Federal agencies. These expenses are normally included in the rental payments we make to lessors. The form also provides an equitable way to compare lessor proposals, and it provides costs of building expenses that can be negotiated to obtain fair and reasonable prices.

B. Annual Reporting Burden

Respondents: 5,733.

Responses per Respondent: 1.

Annual Responses: 5,733.

Hours per Response: 1.

Total Burden Hours: 5,733.

Obtaining Copies of Proposals: Requesters may obtain a copy of the information collection documents from the General Services Administration, Regulatory Secretariat (MVCB), 1275 1st Street, NE., Washington, DC 20417, telephone (202) 501-4755. Please cite OMB Control No. 3090-00XX, Lessor's Annual Cost Statement, in all correspondence.

Dated: December 23, 2010.
Millisa Gary,
Acting Director, Acquisition Policy Division.

[FR Doc. 2010-32775 Filed 12-28-10; 8:45 am]

BILLING CODE 6820-34-P